DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the removal of a person currently on OFAC's Specially Designated Nationals and Blocked Persons List (SDN List) based on OFAC's determination that one or more applicable legal criteria were satisfied. All property and interests in property subject to U.S. jurisdiction of this person is unblocked, and U.S. persons are permitted to engage in lawful transactions with them.

DATES: This action was issued on October 23, 2024. See SUPPLEMENTARY INFORMATION for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On October 23, 2024, OFAC removed from the SDN List the person listed below, who was subject to prohibitions imposed pursuant to E.O. 13661.

Individual

1. SEMENOVA, Olena Yurevna (a.k.a. SEMENOVA, Elena Iurevna); DOB 06 Dec 1978; citizen Ukraine; Secondary sanctions risk: Ukraine-/Russia-Related Sanctions Regulations, 31 CFR 589.201 and/or 589.209; Passport ER747251 (Ukraine); National ID No. 2882908207 (Ukraine) (individual) [UKRAINE-EO13661].

Lisa M. Palluconi,
Acting Director, Office of Foreign Assets Control.

[FR Doc. 2024-25068 Filed 10-28-24; 8:45 am]

BILLING CODE 4810-AL-P